DEPARTMENT OF COMMERCE

International Trade Administration

[A-469-805]

Stainless Steel Bar From Spain: Preliminary Results of Antidumping Duty Administrative Review; 2013-2014

AGENCY: Enforcement and Compliance, International Trade Administration, Commerce.

SUMMARY: The Department of Commerce (the Department) is conducting an administrative review of the antidumping duty order on stainless steel bar (SSB) from Spain. The period of review (POR) is March 1, 2013, through February 28, 2014. The review covers one producer/exporter of the subject merchandise, Gerdau Aceros Especiales Europa, S.L. (Gerdau). We preliminarily determine that Gerdau had no shipments of subject merchandise during the POR. Interested parties are invited to comment on these preliminary results.

DATES: Effective November 18, 2014.

FOR FURTHER INFORMATION CONTACT: Dmitry Vladimirov or Minoo Hatten, AD/CVD Operations, Office I, Enforcement and Compliance, International Trade Administration, U.S. Department of Commerce, 14th Street and Constitution Avenue NW., Washington, DC 20230; telephone: (202) 482-1690, and (202) 482-1690, respectively.

SUPPLEMENTARY INFORMATION:

Scope of the Order

The merchandise subject to the order is SSB. The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process. Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

The SSB subject to the order is currently classifiable under subheadings 7222.10.00, 7222.11.00, 7222.19.00, 7222.20.00, 7222.30.00 of the Harmonized Tariff Schedule of the United States (HTSUS).

Although the HTSUS subheadings are provided for convenience and customs purposes, the written description of the scope of the order is dispositive.¹

¹ The HTSUS numbers provided in the scope changed since the publication of the order. See Amended Final Determination and Antidumping Duty Order: Stainless Steel Bar From Spain, 60 FR 11656 (March 2, 1995).

Preliminary Determination of No Shipments

We published in the Federal Register a notice of initiation of this administrative review of the antidumping duty order on SSB from Spain covering one company, Gerdau.² On May 1, 2014, we requested the U.S. Customs and Border Protection (CBP) data for all entries of SSB by Gerdau during the POR and found that there were no entries.³ We received a timely submission from Gerdau reporting that it did not have sales, shipments, or entries of the subject merchandise during the POR.⁴ We transmitted a “No-Shipment Inquiry” to CBP regarding this company.⁵ Pursuant to this inquiry, we received no notification from CBP of entries of subject merchandise from Gerdau. Accordingly, based on record evidence, we preliminarily determine that Gerdau had no shipments of subject merchandise during the POR. Further, consistent with our practice, we find that it is not appropriate to rescind the review with respect to Gerdau, but rather to complete the review and issue appropriate instructions to CBP based on the final results of this review.⁶

² See Initiation of Antidumping and Countervailing Duty Administrative Reviews and Request for Revocation in Part, 79 FR 24398 (April 30, 2014).

³ See Memorandum to the file entitled “Stainless Steel Bar from Spain—Release of U.S. Customs and Border Protection (CBP) Data” dated May 9, 2014.

⁴ See Gerdau's letter entitled “Stainless Steel Bar From Spain; Entry of appearance and notification of no shipments” dated May 10, 2014.

⁵ See CBP message 4140301 dated May 20, 2014; see also correction message 4160304 dated June 9, 2014.

⁶ See, e.g., Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

Public Comment

Interested parties may submit cases briefs no later than 30 days after the date of publication of this notice.⁷ Rebuttal briefs, limited to issues raised in the case briefs, may be filed not later than five days after the date for filing case briefs.⁸ Parties who submit case briefs or rebuttal briefs in this proceeding are encouraged to submit with each argument: (1) A statement of the issue; (2) a brief summary of the argument; and (3) a table of authorities.⁹

⁷ See 19 CFR 351.309(c)(ii).

⁸ See 19 CFR 351.309(d).

⁹ See 19 CFR 351.309(c)(2) and (d)(2).

Pursuant to 19 CFR 351.310(c), interested parties who wish to request a hearing, or to participate if one is requested, must submit a written request to the Assistant Secretary for Enforcement and Compliance, U.S. Department of Commerce. All documents must be filed electronically using Enforcement and Compliance's Antidumping and Countervailing Duty Centralized Electronic Service System (IA ACCESS).¹⁰ An electronically-filed request must be received successfully in its entirety by IA ACCESS by 5:00 p.m. Eastern Time, within 30 days after the date of publication of this notice.¹¹ Requests should contain: (1) The party's name, address, and telephone number; (2) the number of participants; and (3) a list of issues to be discussed. Issues raised in the hearing will be limited to those raised in the respective case briefs. The Department intends to issue the final results of this administrative review, including the results of its analysis of the issues raised in any written briefs, not later than 120 days after the date of publication of this notice, pursuant to section 751(a)(3)(A) of the Act.

¹⁰ IA ACCESS is available to registered users at http://iaaccess.trade.gov.

¹¹ See 19 CFR 351.310(c).

Assessment Rates

For the final results, if we continue to find that Gerdau had no shipments of subject merchandise, following issuance of the final results of review, for entries of subject merchandise during the POR produced by Gerdau for which this company did not know that the merchandise was destined for the United States, we will instruct CBP to liquidate un-reviewed entries at the all-others rate if there is no rate for the intermediate company(ies) involved in the transaction.¹²

¹² For a full discussion of this clarification, see Antidumping and Countervailing Duty Proceedings: Assessment of Antidumping Duties, 68 FR 23954 (May 6, 2003).

We intend to issue instructions to CBP 15 days after the publication date of the final results of this review.

Cash Deposit Requirements

The following cash deposit requirements will be effective for all shipments of the subject merchandise entered, or withdrawn from warehouse, for consumption on or after the publication date of the final results of this administrative review, as provided by section 751(a)(2)(C) of the Act: (1) The cash deposit rate for Gerdau will remain unchanged from the rate assigned to the company in the most recently completed review of that company; (2) for other manufacturers and exporters covered in a prior segment of the proceeding, the cash deposit rate will continue to be the company-specific rate published for the most recently completed segment of this proceeding in which that manufacturer or exporter participated; (3) if the exporter is not a firm covered in this review, a prior review, or the original investigation, but the manufacturer is, the cash deposit rate will be the rate established for the most recently completed segment of this proceeding for the manufacturer of subject merchandise; and (4) the cash deposit rate for all other manufacturers or exporters will continue to be 25.77 percent, the all-others rate established in the investigation.¹³ These cash deposit requirements, when imposed, shall remain in effect until further notice.

¹³ See Notice of Final Determination of Sales at Less Than Fair Value: Stainless Steel Bar From Spain, 59 FR 66931 (December 28, 1994).

Notification to Importers

This notice serves as a preliminary reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

We are issuing and publishing this administrative review and notice in accordance with sections 751(a)(1) and 777(i) of the Act.

Dated: November 7, 2014.
Ronald K. Lorentzen,
Acting Assistant Secretary for Enforcement and Compliance.

[FR Doc. 2014-27293 Filed 11-17-14; 8:45 am]

BILLING CODE 3510-DS-P